NATIONAL ARCHIVES AND RECORDS ADMINISTRATION

[NARA-2020-043]

Agency Information Collection Activities: Proposed Collection; Comment Request

AGENCY: National Archives and Records Administration (NARA).

ACTION: Notice of proposed extension request.

SUMMARY: We are planning to request that the Office of Management and Budget (OMB) renew its approval for us to engage in the following information collection and invite you to comment on it. We use this collection to obtain information from private foundations or other entities involved in designing, constructing, and equipping Presidential libraries.

DATES: We must receive in writing on or before August 3, 2020.

ADDRESSES: Send comments by email to tamee.fechhelm@nara.gov. Because our buildings are temporarily closed during the COVID-19 restrictions, we are not able to receive comments by mail during this time.

FOR FURTHER INFORMATION CONTACT: Contact Tamee Fechhelm, Paperwork Reduction Act Officer, by email at tamee.fechhelm@nara.gov or by telephone at 301.837.1694 with requests for additional information or copies of the proposed information collection and supporting statement.

SUPPLEMENTARY INFORMATION: Pursuant to the Paperwork Reduction Act of 1995 (Pub. L. 104-13), we invite the public and other Federal agencies to comment on proposed information collections. The comments and suggestions should address one or more of the following points: (a) Whether the proposed information collections are necessary for NARA to properly perform its functions; (b) our estimates of the burden of the proposed information collections and their accuracy; (c) ways we could enhance the quality, utility, and clarity of the information we collect; (d) ways we could minimize the burden on respondents of collecting the information, including through information technology; and (e) whether these collections affect small businesses. We will summarize any comments you submit and include the summary in our request for OMB approval. All comments will become a matter of public record. In this notice, we solicit comments concerning the following information collection:

Title: Presidential Library Facilities.

OMB number: 3095-0036.

Agency form number: None.

Type of review: Regular.

Affected public: Presidential library foundations or other entities proposing to transfer a Presidential library facility to NARA.

Estimated number of respondents: 1.

Estimated time per response: 40 hours.

Frequency of response: On occasion.

Estimated total annual burden hours: 40 hours.

Abstract: The information collection is required for NARA to meet its obligations under 44 U.S.C. 2112(a)(3) to submit a report to Congress before accepting a new Presidential library facility. The report contains information that can be furnished only by the foundation or other entity responsible for building the facility and establishing the library endowment.

Swarnali Haldar,
Executive for Information Services/CIO.

[FR Doc. 2020-11829 Filed 6-1-20; 8:45 am]

BILLING CODE 7515-01-P